OFFICE OF THE UNITED STATES TRADE REPRESENTATIVE

Request for Public Comments on Annual Review of Country Eligibility for Benefits under the African Growth and Opportunity Act in Calendar Year 2015

AGENCY: Office of the United States Trade Representative.

ACTION: Notice and Request for Comments.

SUMMARY: The African Growth and Opportunity Act Implementation Subcommittee of the Trade Policy Staff Committee (Subcommittee) is requesting written public comments for the annual review of the eligibility of sub-Saharan African countries to receive the benefits of the African Growth and Opportunity Act (AGOA). The Subcommittee will consider these comments in developing recommendations on AGOA country eligibility for calendar year 2015 for the President. Comments received related to the child labor criteria may also be considered by the Secretary of Labor in the preparation of the Department of Labor's report on child labor as required under section 412(c) of the Trade and Development Act of 2000. This notice identifies the eligibility criteria that must be considered under AGOA, and lists those sub-Saharan African countries that are currently eligible for the benefits of AGOA and those that were ineligible for such benefits in 2014.

DATES: To ensure consideration, public comments must be submitted to the Office of the U.S. Trade Representative (USTR) by October 25, 2014.

ADDRESSES: USTR strongly prefers electronic submissions made at http://www.regulations.gov, docket number USTR-2014-0018 See “Requirements for Submission,” below. If you are unable to make a submission at www.regulations.gov, please contact Yvonne Jamison, Trade Policy Staff Committee, at (202) 395-3475 to make other arrangements.

FOR FURTHER INFORMATION CONTACT: For procedural questions, please contact Yvonne Jamison, Office of the U.S. Trade Representative, 600 17th Street NW., Room F516, Washington, DC 20508, at (202) 395-3475. All other questions should be directed to Constance Hamilton, Deputy Assistant U.S. Trade Representative for Africa, Office of the U.S. Trade Representative, at (202) 395-9514.

SUPPLEMENTARY INFORMATION: AGOA (Title I of the Trade and Development Act of 2000, Pub. L. 106-200) (19 U.S.C. 3721 et seq.), as amended, authorizes the President to designate sub-Saharan African countries as beneficiaries eligible for duty-free treatment for certain additional products under the Generalized System of Preferences (GSP) (Title V of the Trade Act of 1974 (19 U.S.C. 2461 et seq.) (1974 Act)), as well as for preferential treatment for certain textile and apparel articles.

The President may designate a sub-Saharan country as a beneficiary eligible for both the additional GSP benefits and the textile and apparel benefits of AGOA if he determines that the country meets the eligibility criteria set forth in: (1) section 104 of AGOA (19 U.S.C. 3703); and (2) section 502 of the 1974 Act (19 U.S.C. 2462).

Section 104 of AGOA includes requirements that the country has established or is making continual progress toward establishing, inter alia: a market-based economy; the rule of law, political pluralism, and the right to due process; the elimination of barriers to U.S. trade and investment; economic policies to reduce poverty; a system to combat corruption and bribery; and protection of internationally recognized worker rights. In addition, the country may not engage in activities that undermine U.S. national security or foreign policy interests or engage in gross violations of internationally recognized human rights. Please see section 104 of AGOA and section 502 of the 1974 Act for a complete list of AGOA eligibility criteria.

Section 506A of the 1974 Act requires that, if the President determines that a beneficiary sub-Saharan African country is not meeting the eligibility requirements, he must terminate the designation of the country as a beneficiary sub-Saharan African country. For 2014, 41 countries were designated as beneficiary sub-Saharan African countries. These countries, as well as the countries currently designated as ineligible, are listed below. Section 506A of the 1974 Act provides that the President shall monitor and review annually the progress of each sub-Saharan African country in meeting the foregoing eligibility criteria in order to determine whether each beneficiary sub-Saharan African country should continue to be eligible, and whether each sub-Saharan African country that is currently not a beneficiary sub-Saharan African country, should be designated as such a country.

The Subcommittee is seeking public comments in connection with the annual review of the eligibility of beneficiary sub-Saharan African countries for AGOA's benefits. The Subcommittee will consider any such comments in developing recommendations on country eligibility for the President. Comments related to the child labor criteria may also be considered by the Secretary of Labor in making the findings required under section 504 of the 1974 Act.

The following sub-Saharan African countries were designated as beneficiary sub-Saharan African countries in 2014:

Angola

Republic of Benin

Republic of Botswana

Burkina Faso

Burundi

Republic of Cabo Verde

Republic of Cameroon

Republic of Chad

Federal Islamic Republic of Comoros

Republic of Congo

Republic of Cote d'Ivoire

Republic of Djibouti

Ethiopia

Gabonese Republic

The Gambia

Republic of Ghana

Republic of Guinea

Republic of Kenya

Kingdom of Lesotho

Republic of Liberia

Republic of Madagascar

Republic of Malawi

Republic of Mali

Islamic Republic of Mauritania

Republic of Mauritius

Republic of Mozambique

Republic of Namibia

Republic of Niger

Federal Republic of Nigeria

Republic of Rwanda

Sao Tome & Principe

Republic of Senegal

Republic of Seychelles

Republic of Sierra Leone

Republic of South Africa

Republic of South Sudan

Kingdom of Swaziland

United Republic of Tanzania

Republic of Togo

Republic of Uganda

Republic of Zambia

The following sub-Saharan African countries were not designated as beneficiary sub-Saharan African countries in 2014:

Central African Republic

Democratic Republic of Congo

Republic of Equatorial Guinea

State of Eritrea

Republic of Guinea-Bissau

Somalia

Republic of Sudan

Republic of Zimbabwe

Requirements for Submissions: Comments must be submitted in English. To ensure the most timely and expeditious receipt and consideration of petitions, USTR has arranged to accept on-line submissions via http://www.regulations.gov. To submit petitions via this site, enter docket number USTR-2014-0018 on the home page and click “search.” The site will provide a search-results page listing all documents associated with this docket. Find a reference to this notice by selecting “notice” under “Document Type” on search-results page and click on the link entitled “Submit a Comment.” (For further information on using the http://www.regulations.gov Web site, please consult the resources provided on the Web site by clicking on “Help” at the top of the home page.)

The http://www.regulations.gov Web site provides the option of making submissions by filling in a “Type Comment” field, or by attaching a document. USTR prefers comments to be submitted as attachments. When doing this, it is sufficient to type “See attached” in the “Type Comment” field. Submissions in Microsoft Word (.doc) or Adobe Acrobat (pdf) are preferred.

Persons wishing to file comments containing business confidential information must submit both a business confidential version and a public version. Persons submitting business confidential information should write “See attached BC comments” in the “Type Comment” field. Any page containing business confidential information must be clearly marked “BUSINESS CONFIDENTIAL” on the top of that page. Persons submitting a business confidential comment must also submit a separate public version of that comment with the business confidential information deleted. Persons should write “See attached public version” in the “Type Comment” field of the public submission. Submissions should not attach separate cover letters; rather, information that might appear in the cover letter should be included in the comments you submit. Similarly, to the extent possible, please include any exhibits, annexes, or other attachments to a submission in the same file as the submission itself and not as separate files.

Public versions of all documents relating to this review will be available for review no later than two weeks after the due date at www.regulations.gov, docket number USTR-2014-0018.

Douglas Bell,
Chair, Trade Policy Staff Committee.

[FR Doc. 2014-23414 Filed 9-30-14; 8:45 am]

BILLING CODE 3290-F4-P